DEPARTMENT OF TRANSPORTATION

Federal Aviation Administration

14 CFR Part 39

[Docket No. 2001-NM-365-AD; Amendment 39-13482; AD 2004-04-02]

RIN 2120-AA64

Airworthiness Directives; Saab Model SAAB 2000 Series Airplanes

AGENCY: Federal Aviation Administration, DOT.

ACTION: Final rule.

SUMMARY: This amendment adopts a new airworthiness directive (AD), applicable to certain Saab Model SAAB 2000 series airplanes, that requires replacing the dual shuttle valve in the number 2 hydraulic system with a new, improved valve. This action is necessary to prevent failure of the dual shuttle valve in the number 2 hydraulic system, with reduced maximum elevator rate on the left side, which could result in pilot-induced pitch oscillation and consequent reduced controllability of the airplane. This action is intended to address the identified unsafe condition.

DATES: Effective March 24, 2004.

The incorporation by reference of certain publications listed in the regulations is approved by the Director of the Federal Register as of March 24, 2004.

ADDRESSES: The service information referenced in this AD may be obtained from Saab Aircraft AB, SAAB Aircraft Product Support, S-581.88, Linköping, Sweden. This information may be examined at the Federal Aviation Administration (FAA), Transport Airplane Directorate, Rules Docket, 1601 Lind Avenue, SW., Renton, Washington; or at the Office of the Federal Register, 800 North Capitol Street, NW., Suite 700, Washington, DC.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION: A proposal to amend part 39 of the Federal Aviation Regulations (14 CFR part 39) to include an airworthiness directive (AD) that is applicable to certain Saab Model SAAB 2000 series airplanes was published in the Federal Register on September 19, 2003 (68 FR 54862). That action proposed to require replacing the dual shuttle valve in the number 2 hydraulic system with a new, improved valve; and, for certain airplanes, modifying the hydraulic system.

Comments

Interested persons have been afforded an opportunity to participate in the making of this amendment. Due consideration has been given to the single comment received.

Request To Revise Applicability/Remove Requirement To Modify Hydraulic System

One commenter, the airplane manufacturer, requests that the FAA revise the proposed AD to limit the applicability of the proposed AD to airplanes on which Saab Modification 5952 (Saab Service Bulletin 2000-29-010) has been accomplished. The commenter notes that Swedish airworthiness directive 1-164, dated August 17, 2001, which is the parallel airworthiness directive for the FAA's proposed AD, was issued to require replacement of the dual shuttle valve introduced by Saab Modification 5952. Airplanes on which Saab Modification 5952 (or Saab Service Bulletin 2000-29-010) has not been accomplished should not be subject to the requirements of the proposed AD. Thus, the commenter requests that we revise the applicability statement of the proposed AD; and remove, from the proposed AD, paragraph (b), the section “Differences Between the Proposed Rule, Swedish Airworthiness Directive, and Service Bulletins,” and the paragraph in the Cost Impact section that addresses costs associated with accomplishing Saab Service Bulletin 2000-29-010.

We concur. Based on the information provided by the commenter, it is clear that the requirements of this AD apply only to airplanes on which Saab Modification 5952 (Saab Service Bulletin 2000-29-010) has been installed. Accordingly, we have revised the applicability statement, paragraph (a), and the Cost Impact section of this final rule. We have also removed references to accomplishment of the actions in Saab Service Bulletin 2000-29-010 throughout the final rule. Paragraphs affected by the removal of paragraph (b) from the body of this final rule have been re-identified accordingly. (The “Differences” section is not restated in the final rule, so no change is possible in this regard.)

Conclusion

After careful review of the available data, including the comment noted above, the FAA has determined that air safety and the public interest require the adoption of the rule with the changes described previously. The FAA has determined that these changes will neither increase the economic burden on any operator nor increase the scope of the AD.

Cost Impact

We estimate that 3 airplanes of U.S. registry will be affected by this AD, that the required replacement will take approximately 4 work hours per airplane, and that the average labor rate is $65 per work hour. Parts will be provided to the operator at no charge. Based on these figures, the cost impact of the required replacement on U.S. operators is estimated to be $780, or $260 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-04-02 Saab Aircraft AB: Amendment 39-13482. Docket 2001-NM-365-AD.

Applicability: Model SAAB 2000 series airplanes, as listed in Saab Service Bulletin 2000-29-020, dated August 14, 2001; on which Saab Modification 5952 (Saab Service Bulletin 2000-29-010) has been accomplished; certificated in any category.

Compliance: Required as indicated, unless accomplished previously.

To prevent failure of the dual shuttle valve in the number 2 hydraulic system, with reduced maximum elevator rate on the left side, which could result in pilot induced pitch oscillation, and consequent reduced controllability of the airplane, accomplish the following:

Replacement: Modified Airplanes

(a) Within 15,000 flight hours after completing Modification 5952, replace the dual shuttle valve in the number 2 hydraulic system with a new, improved valve, per the Accomplishment Instructions of Saab Service Bulletin 2000-29-020, dated August 14, 2001.

Note 1: Although Saab Service Bulletin 2000-29-020, dated August 14, 2001, specifies sending removed or replaced parts to the manufacturer or the vendor, this AD does not include such a requirement.

Parts Installation

(b) As of the effective date of this AD, no person may install a dual shuttle valve, part number 7329114-721, on any airplane.

Alternative Methods of Compliance

(c) In accordance with 14 CFR 39.19, the Manager, International Branch, ANM-116, Transport Airplane Directorate, FAA, is authorized to approve alternative methods of compliance for this AD.

Incorporation by Reference

(d) The actions shall be done in accordance with Saab Service Bulletin 2000-29-020, dated August 14, 2001. This incorporation by reference was approved by the Director of the Federal Register in accordance with 5 U.S.C. 552(a) and 1 CFR part 51. Copies may be obtained from Saab Aircraft AB, SAAB Aircraft Product Support, S-581.88, Linköping, Sweden. Copies may be inspected at the FAA, Transport Airplane Directorate, 1601 Lind Avenue, SW., Renton, Washington; or at the Office of the Federal Register, 800 North Capitol Street, NW., suite 700, Washington, DC.

Note 2: The subject of this AD is addressed in Swedish airworthiness directive 1-164, dated August 17, 2001.

Effective Date

(e) This amendment becomes effective on March 24, 2004.

Issued in Renton, Washington, on February 9, 2004.
Ali Bahrami,
Acting Manager, Transport Airplane Directorate, Aircraft Certification Service.

[FR Doc. 04-3349 Filed 2-17-04; 8:45 am]

BILLING CODE 4910-13-P